DEPARTMENT OF STATE

[Public Notice: 12619]

Notice of Public Meeting in Preparation for International Maritime Organization PPR 12 Meeting

ACTION: Notice of public meeting.

The Department of State will conduct a public meeting at 12:00 p.m. EST on Tuesday, January 21, 2025, virtually via Microsoft Teams. The primary purpose of the meeting is to prepare for the 12th session of the International Maritime Organization's (IMO) Pollution Prevention and Response Sub-Committee (PPR 12) to be held in London, United Kingdom from January 27th to 31st, 2025.

Members of the public may participate in the public meeting up to the capacity of the Microsoft Teams line. The Microsoft Teams information is Conference Call-in number +1 410-874-6742; Phone Conference ID 751 408 844#. To RSVP, participants should contact the meeting coordinator, Ms. Nicole M. Schindler, by email at Nicole.M.Schindler@uscg.mil no later than Monday, January 20, 2025.

The agenda items to be considered at this meeting mirror those to be considered at PPR 12, and include:

—Adoption of the agenda;

—Decisions of other IMO bodies;

—Safety and pollution hazards of chemicals and preparation of consequential amendments to the IBC Code (7.3);

—Amendments to MARPOL Annex II in order to improve the effectiveness of cargo tank stripping, tank washing operations and prewash procedures for products with a high melting point and/or high viscosity 7.38);

—Development of guidance on matters relating to in-water cleaning (1.21);

—Reduction of the impact on the Arctic of Black Carbon emissions from international shipping (3.3);

—Evaluation and harmonization of rules and guidance on the discharge of discharge water from EGCS into the aquatic environment, including conditions and areas (1.23);

—Amendments to the 2017 Guidelines addressing additional aspects of the NOx Technical Code 2008 with regard to particular requirements related to marine diesel engines with Selective Catalytic Reduction (SCR) systems (resolution MEPC.291(71), as amended by resolution MEPC.313(74)) (7.46);

—Review of the IBTS Guidelines and amendments to the IOPP Certificate and Oil Record Book (2.13);

—Revision of MARPOL Annex IV and associated guidelines (1.26);

—Follow-up work emanating from the Action Plan to address marine plastic litter from ships (4.3);

—Unified interpretation of provisions of IMO environment-related conventions (7.1);

—Biennial agenda and provisional agenda for PPR 13;

—Election of Chair and Vice-Chair for 2026;

—Any other business; and

—Report to the Marine Environment Protection Committee.

Please note: The IMO may, on short notice, adjust the PPR 12 agenda to accommodate the constraints associated with the meeting format. Any changes to the agenda will be reported to those who RSVP.

Those who plan to participate should contact the meeting coordinator, Ms. Nicole M. Schindler, by email at Nicole.M.Schindler@uscg.mil no later than Monday, January 20, 2025, by phone at (206) 820-5710 no later than Monday, January 20, 2025, or in writing at United States Coast Guard (CG-OES), ATTN: Ms. Nicole M. Schindler, 2703 Martin Luther King Jr. Ave. SE, Stop 7509, Washington, DC 20593-7509 no later than Thursday, January 16, 2025. Any requests for reasonable accommodation should be provided to Ms. Schindler no later than January 14, 2025. Additional information regarding this and other IMO public meetings may be found at: https://www.dco.uscg.mil/IMO.

(Authority: 22 U.S.C. 2656 and 5 U.S.C. 552)

Leslie W. Hunt,
Coast Guard Liaison Officer, Office of Ocean and Polar Affairs, Department of State.

[FR Doc. 2024-30959 Filed 12-27-24; 8:45 am]

BILLING CODE 4710-09-P